DEPARTMENT OF HEALTH AND HUMAN SERVICES

Administration on Aging

Tribal Consultation (Listening Sessions) With American Indian/Alaskan Native/Native Hawaiian Representatives

SUMMARY: The Department of Health and Human Services policy on consultation with American Indian/Alaska Native (AI/AN) Governments and Organizations requires each Operating Division to meet with AI/AN Tribal Representatives. The Administration on Aging (AoA) will call three Tribal Listening Sessions that comply with the Department's tribal consultation policy and the Older Americans Act (OAA). The listening sessions will be held in conjunction with OAA Title VI training and technical assistance meetings in 2003 and 2004.

The Tribal Listening Sessions will give AI/AN Tribal representatives, Native Hawaiian representatives, Title VI Directors, and AI/AN elders an opportunity to discuss Native American elder issues. The Administration on Aging is interested in the following critical issues:

What can the Aging Services Network do to empower older people and their families to make the best decisions about their care options? How can tribes build on the early success of the Native American Family Caregiver Support Program and expand access to information, make services more consumer-friendly, and allow caregivers more choices? What innovations are occurring at the Tribe, State and local level related to access and service delivery that could serve as models for other Tribes and communities across the country?

Anyone interested in testifying must pre-register to obtain a time slot. To accommodate as many speakers and diverse opinions as possible, each person will have a maximum of 10 minutes. AoA will accept a copy of written remarks at the time of the Tribal Listening Session.

DATES: The Tribal Listening Sessions are from 1 to 4 pm on the following dates and locations:

• October 29, 2003—Reno/Sparks, Nevada

• Feb. 25, 2004—Phoenix, Arizona

• April 28, 2004—Rapid City, South Dakota

FOR FURTHER INFORMATION AND TO REGISTER CONTACT: Kaufmann and Associates at 425 West 1ST Avenue, Spokane, WA 99201, phone: (509) 747-4994, fax: (509) 747-5030. These are not toll-free numbers. Electronic mail address: info@olderindians.org

If you are unable to attend but wish to provide comments or Tribal Resolutions, these may be faxed to Kauffman & Associates, Inc at (509) 747-5030.

In accordance with the provisions of the Americans with Disabilities Act (ADA), it is requested that any special assistance requirements be requested when registering for a Tribal Listening Session.

Dated: October 20, 2003.
Josefina G. Carbonell,
Assistant Secretary for Aging.

[FR Doc. 03-26736 Filed 10-22-03; 8:45 am]

BILLING CODE 4154-01-P